SMALL BUSINESS ADMINISTRATION

[License No. 01/01-0412]

Surrender of License of Small Business Investment Company; North Atlantic SBIC IV, L.P.

Pursuant to the authority granted to the United States Small Business Administration under the Small Business Investment Act of 1958, as amended, under Section 309 of the Act and Section 107.1900 of the Small Business Administration Rules and Regulations (13 CFR 107.1900) to function as a small business investment company under the Small Business Investment Company License No. 01/01-0412 issued to North Atlantic SBIC IV, LP, said license is hereby declared null and void.

Bailey DeVries,
Associate Administrator, Office of Investment and Innovation.

[FR Doc. 2022-13625 Filed 6-24-22; 8:45 am]

BILLING CODE 8026-03-P